DEPARTMENT OF AGRICULTURE

Forest Service

San Bernardino National Forest, Mountaintop Ranger District, California, Mitsubishi South Quarry Expansion Project

AGENCY: Forest Service, USDA.

ACTION: Notice of intent to prepare an environmental impact statement.

SUMMARY: Mitsubishi Cement Corporation is submitting to the San Bernardino National Forest and San Bernardino County, for permitting, a Plan of Operations and Reclamation Plan for the South Quarry. The South Quarry will total approximately 153.6 acres consisting of a 128-acre quarry, a 2.7 acre landscape berm, a 22.2-acre haul road 1.8 miles in length, and a temporary construction road of 0.7 acres. The South Quarry and haul road will be located almost entirely (147.0 acres) on 440 acres of unpatented claims owned by Mitsubishi Cement Corporation on the San Bernardino National Forest with approximately 6.6 acres of the haul road located on Mitsubishi Cement Corporation fee land where it enters the existing East Pit. Current estimates project the South Quarry could feed the cement plant for approximately 120 years. No change to the throughput or operation of the Cushenbury Cement Plant is proposed as part of this project. Based on drilling conducted during the winter of 2009 and 2010, the South Quarry site has estimated proven and inferred reserves of over 200 million tons of mostly high to medium grade limestone. This higher grade limestone would be blended with lower grade limestone excavated from the West and East Pits at a ratio of approximately 50/50 in order to meet the limestone specifications to feed the adjacent Mitsubishi Cement Corporation Cushenbury Cement Plant. Concurrent reclamation would be conducted throughout the life of the quarry and, at the conclusion of excavations, 5 years of active reclamation and revegetation would be implemented followed by revegetation monitoring and remediation until revegetation goals are achieved.

Comments are being requested to help identify significant issues or concerns related to the proposed action, to determine the scope of the issues (including alternatives) that need to be analyzed and to eliminate from detailed study those issues that are not significant. Supporting documentation should be included with comments recommending that the joint Environmental Impact Statement (EIS) and Environmental Impact Report (EIR) (EIS/EIR), to be prepared by the San Bernardino National Forest and County of San Bernardino, as the lead state agency under the California Environmental Quality Act (CEQA), address specific environmental issues.

DATES: Comments concerning the scope of the analysis must be received by March 23, 2012. The draft EIS/EIR is expected fall 2012 and the final EIS/EIR is expected spring 2013.

ADDRESSES: Send written comments to San Bernardino National Forest, Mitsubishi South Quarry Expansion Project, do Anne Surdzial, ECORP Consulting, Inc. 215 N. 5th Street, Redlands, CA 92374. Comments may also be sent via email to asurdzial@ecorpconsulting.com (please put “Mitsubishi Cement Company South Quarry Expansion” in the subject line), or via facsimile to (909) 307-0056. It is important that reviewers provide their comments at such times and in such a way that they are useful to the Agency's preparation of the EIS/EIR. Therefore, comments should be provided prior to the close of the comment period and should clearly articulate the reviewer's concerns and contentions with the proposed action.

Comments received in response to this solicitation, including names and addresses of those who comment, will be part of the public record for this proposed action. However, comments submitted anonymously will be accepted and considered.

FOR FURTHER INFORMATION CONTACT: Thomas Hall, Environmental Coordinator, San Bernardino National Forest at (909) 382-2905 or thall@fs.fed.us. Individuals who use telecommunication devices for the deaf (TDD) may call the Federal Information Relay Service (FIRS) at 1-800-877-8339 between 8 a.m. and 8 p.m., Eastern Time, Monday through Friday.

SUPPLEMENTARY INFORMATION: Mitsubishi Cement Corporation submitted the Plan of Operations and Reclamation Plan for the proposed South Quarry to the Mountaintop District Ranger, San Bernardino National Forest, on October 22, 2010. The South Quarry is within portions of Sections 14, 15, 22, and 23 Township 3 North, Range 1 East. Elevations at the South Quarry site currently range from 5,555 to 6,675 feet.

The South Quarry would be mined at an average production rate of 1.3 million tons per year of ore and 150,000 tons per year of waste rock for up to 120 years. At this time, Mitsubishi Cement Corporation is requesting a 120-year operations plan excavating approximately 156 million tons of ore. Mitsubishi Cement Corporation's Cushenbury Cement Plant requires a limestone feed of up approximately 2.6 million tons per year, and this would not change as a result of the South Quarry Project. East and West Pits would be reduced to an average of 1.3 million tons per year of ore and 150,000 tons per year of waste rock. Therefore the overall limestone production of 2.6 million tons per year and 300,000 tons per year of waste rock at the mining complex would not change.

Purpose and Need for Action

Mitsubishi Cement Corporation submitted to San Bernardino National Forest and San Bernardino County a Plan of Operations and Reclamation Plan for the proposed South Quarry. The Forest Service is analyzing the surface use of National Forest System lands in connection with operations authorized by the United States mining laws (30 U.S.C. 21-54), which confer a statutory right to enter upon the public lands to search for minerals, shall be conducted so as to minimize adverse environmental impacts on National Forest System surface resources. The responsibility for managing mineral resources is in the Secretary of the Interior.

Mitsubishi Cement Corporation's Cushenbury Cement Plant requires a limestone feed of approximately 2.6 million tons per year of a specific blend of limestone in order to manufacture cement. In 2004, as the existing East Pit neared its exhaustion of cement grade limestone, the West Pit expansion was approved by the County of San Bernardino on 191 acres to the west of the existing East Pit with approximately 217 million tons of limestone reserves. The amount of high grade limestone to blend with the lower grades of limestone to meet the feed requirement for the cement plant would not be adequate for the life of the mine. The proposed South Quarry site would be able to meet the requirements for blending with its estimated, proven and inferred reserves of over 200 million tons of high to medium grade limestone rock.

Proposed Action

The development of the South Quarry would consist of construction of the 1.8 mile long haul road, four phases of excavations, concurrent reclamation, and then final reclamation followed by revegetation monitoring. During the first two years, the 1.8-mile long haul road would be constructed. The planned haul road would access the South Quarry at 5,950 feet amsl and traverse down the north slope to an elevation of 5,050 feet amsl at the southwest corner of the existing East Pit. The road's surface width would be 50 to 60 feet with a grade not to exceed 10% and it would have a surface of crushed limestone. The excavation plan for the South Quarry is divided into four phases based on operational, engineering, and environmental concerns with the development of the main quarry to a maximum depth of 5,365 feet above mean sea level or 1,215 feet below the quarry rim on the south. Phase 1A would be initiated after construction of the haul road and compliance with preconstruction conditions and has ore reserves of approximately 3.5 years. Phase 1B would excavate the southeast 31 acres of the quarry. Reserves are estimated at about 29 million tons of ore. At an ore production rate of 1.3 million tons per year, Phase 1B would have a life of approximately 22 years. Phase 2 would excavate the central 85 acres of the quarry. Reserves are estimated at 19 million tons of ore. At an ore production rate 1.3 million tons per year, Phase 1B would have a life of approximately 14.5 years for a cumulative total of 40 years from the commencement of mining. Phase 3 would be an approximately 40-year excavation phase on approximately 75 acres within the central part of the quarry within the footprint of Phase 2. Mining would excavate to floor elevation of approximately 5,905 feet, a depth of approximately 315 feet below the Phase 2 floor elevation of 6,130 feet. Reserves are estimated at over 52 million tons of ore. Phase 4 would be the final excavation phase on approximately 65 acres within the central part of the proposed South Quarry configuration, again within the footprint of Phase 2, to complete the 120-year lifespan. Mining would excavate to floor elevation of approximately 5,365 feet, a maximum depth of approximately 550 feet below the Phase 3 floor elevation of 5,905 feet. Reserves are estimated at 52 million tons of ore.

Minimal amounts of overburden are expected as the limestone is generally exposed across the quarry site. Any topsoil onsite would be in the form of smaller eroded limestone gravel that may contain organic material and seeds. This surface material would be salvaged and stored in separately marked stockpiles for future reclamation efforts along and above the top benches and used for the construction of the landscape berm along the southern rim. Instead of removing the waste rock and depositing it in a separate waste stockpile(s) outside the rim of the quarry, this plan proposes to backfill the waste rock within Phases 1B and 4 as mining progresses with depth.

Mitsubishi Cement Corporation proposes to reclaim the quarry site to meet both Forest Service Minerals Regulations (36 CFR 228, Subpart A) under the jurisdiction of the San Bernardino National Forest and the California Surface Mining and Reclamation Act implemented by San Bernardino County that will minimize impacts to the surrounding environment. Due to planned extraction, the permanent perimeter quarry slopes would be reclaimed from the rim downward as completed per phase to meet designed slopes dependent on the findings of the ongoing slope stability assessments. Reclamation would consist of sloping excavated cuts and benches as necessary to meet the designed 0.55H: 1V overall slope and to round the rims of the final benches. Each bench would be sloped inward toward the vertical wall to capture any precipitation or runoff. The individual benches would be approximately 45 feet vertical and 25 feet wide unless required to be flatter in specific areas, as determined by geological mapping during ongoing quarry operations or where the waste rock stockpiles would be located. Surface material salvaged for revegetation would be limited due to the surficial rock conditions onsite. Available material containing the native seed bank would be placed on the benches and would be augmented with additional growth media and mulch in “islands” to provide future sources of seeds. The revegetation methods include seeding with native perennial species, plantings grown in a nursery whether started from seed, cuttings or whole plant salvage from seeds collected at or near the site, and planting plants salvaged from new mining areas. The Biological Monitoring Plan would be an ongoing effort to assess the results of revegetation on the disturbed areas of the site. The monitoring plan would be followed annually to monitor and assess completed revegetated areas and areas where revegetation is being planned or just beginning.

The Plan of Operations includes avoidance/minimization and environmental protection measures, including:

1. Mitsubishi Cement Corporation will, upon withdrawal, quit-claim specified unpatented mining claims held within San Bernardino National Forest, and convey specified patented lands, which have been verified by the Forest Service to contain occupied endangered species habitat on a 3 to 1 ratio (acres and conservation value) as mitigation for impacts of the expansion on Cushenbury buckwheat (Eriogonum ovalifolium var. vineum), Cushenbury oxytheca (Oxytheca parishii var. goodmaniana), and Parish's daisy (Erigeron parishii).

2. Control of surface drainage, erosion, and sedimentation of the proposed haul road and quarry operations will involve the following primary components currently being implemented for existing operations:

a. Limiting surface disturbance to the minimum area required for active operations.

b. Diverting runoff, where operationally feasible, such that runoff from undisturbed areas does not enter the area of active operations.

c. Using ditches, sediment basins, and localized control and maintenance measures to intercept and control runoff along the haul road.

d. Stabilizing disturbance areas through regrading, revegetation, and other restoration practices.

3. To avoid incidental killing of birds protected under the Migratory Bird Treaty Act, two measures will be implemented: (1) Complete all vegetation removal or initial grading outside the breeding season (i.e., do not remove potential nesting habitat from February 1 through August 31), or (2) confirm prior to beginning vegetation removal but after survey flagging is in place showing the limits of grading, that no birds are nesting in areas to be disturbed.

4. The occurrence of weeds on-site shall be monitored by visual inspection. The goal is to prevent weeds from becoming established and depositing seeds in areas to be revegetated at a later date. No areas will be allowed to have more than 20 percent of the ground cover provided by nonnative plant species. If inspections reveal that weeds are becoming an issue or have established on-site, then removal will be initiated. Inspections shall be made in conjunction with revegetation monitoring.

Lead and Cooperating Agencies

The San Bernardino National Forest and County of San Bernardino, as the lead state agency under the California Environmental Quality Act (CEQA), will be preparing a joint Environmental Impact Statement (EIS) and Environmental Impact Report (EIR). This EIS/EIR will analyze and disclose the potential effects of the proposed limestone quarry. Each joint lead agency retains its decisionmaking authority over the part of the proposed action over which it has authority and does not acquire any influence over the other's decisionmaking.

The Mojave Desert Air Quality Management District has agreed to participate as a cooperating agency and to provide expertise regarding the proposed actions' relationship to the relevant objectives of regional, State and local land use plans, policies and controls.

Responsible Official

The Responsible Official for the Mitsubishi South Quarry Expansion project is the San Bernardino National Forest Supervisor, Jody Noiron.

Nature of Decision To Be Made

The Responsible Official will decide whether to approve the Plan of Operation following the environmental analysis. The Forest Service does not have the authority to remove the proponent's ability to mine its claims on National Forest System lands. San Bernardino County will decide whether to approve the Reclamation Plan under SMARA following the analysis under CEQA.

Scoping Process

This notice of intent initiates the scoping process, which guides the development of the EIS/EIR. The complete Plan of Operation and Reclamation Plan is available on the San Bernardino National Forest Web site at: http://data.ecosystem-management.org/nepaweb/nepa_project_exp.php?project=32613. Public Scoping meetings will be held on Tuesday, March 13, 2012 at the Lucerne Valley Community Center, 33187 Old Woman Springs Road, Lucerne Valley, California 92356 beginning at 7 pm PST, and Tuesday, March 20, 2012 at the Big Bear Discovery Center, 40971 North Shore Drive (Highway 38), Fawnskin, California 92333 beginning at 7 pm PST.

It is important that reviewers provide their comments at such times and in such manner that they are useful to the agency's preparation of the EIS/EIR. Therefore, comments should be provided prior to the close of the comment period and should clearly articulate the reviewer's concerns and contentions.

Dated: February 13, 2012.
Jody Noiron,
Forest Supervisor, San Bernardino National Forest.

[FR Doc. 2012-3938 Filed 2-21-12; 8:45 am]

BILLING CODE 3410-11-M